DEPARTMENT OF STATE

[Public notice: 10083]

International Joint Commission: Invites Public Comment on Review of Emergency Levels for Rainy and Namakan Lakes

AGENCY: Department of State.

ACTION: International Joint Commission: Invites Public Comment on Review of Emergency Levels for Rainy and Namakan Lakes.

SUMMARY: The International Joint Commission (IJC) announced today that it is inviting public comment on Emergency Levels for Rainy and Namakan Lakes (also known as Rule Curves). Comments will be accepted at public hearings and by mail, email and on-line until September 1, 2017. Following receipt of the International Rainy and Namakan Lakes Rule Curves Study Board's final report in late June, the International Joint Commission will be holding public hearings in the basin on its own report. Draft Changes to the Rainy and Namakan Lakes Rule Curves for Public Comment. The Commission is considering proposed changes to its Orders of Approval for the emergency regulation of Rainy and Namakan Lakes that have been recommended by the Study.

DATES: Commissioners will be present to hear comments at four public hearings throughout the basin from August 16 to 18, 2017. A public comment period on the Commission's report will also be open from July 24 to September 1, 2017.

ADDRESSES: The public hearings will be held at the following locations:

Wednesday, Fort Frances, Ontario

August 16: Fort Frances Library—Shaw Hub Room, 601 Reid Avenue, Fort Frances, ON P9A 0A2, 7:00 p.m.-9:00 p.m.

Thursday, Kabetogama, Minnesota

August 17: Kabetogama Lake Community Centre, 9707 Gamma Road, Kabetogama, MN 56669, 3:00 p.m.-5:00 p.m.

Thursday, International Falls, Minnesota

August 17: Backus Community Centre—Conference Room 101/102, 900 5th Street, International Falls, MN 56649, 7:00 p.m.-9:00 p.m.

Friday, Rainy River, Ontario

August 18: Rainy River Recreation Centre, 302 Broadway Avenue, Rainy River, ON P0W 1L0, 9:30 a.m.-11:30 a.m.

FOR FURTHER INFORMATION CONTACT:

Sarah Lobrichon (Ottawa), 613-992-5368, lobrichons@ottawa.ijc.org

Frank Bevacqua (Washington), 202-736-9024, bevacqauf@washington.ijc.org

SUPPLEMENTARY INFORMATION: The Commission's proposal relating to the Emergency Regulation of Levels on Rainy and Namakan Lakes are centered on five general themes:

Changes to existing Rule Curves: Alternative C for the rule curves for Rainy and Namakan lakes, which includes a rule curve for high flood risk years for Rainy Lake, should be adopted.

An expanded role for the Water Levels Committee (WLC) of the International Rainy-Lake of the Woods Watershed Board (IRLWWB): The WLC should be empowered to target specific levels outside of the middle portion of the rule curve for each lake. New operational guidelines are needed for the WLC, and further guidance, in the form of a refined directive for the IRLWWB and the WLC, is needed.

Adaptive Management: The Commission will work with the IRLWWB to determine how best to implement an adaptive management strategy in the medium and long term planning and activities of both the IRLWWB and the Commission in the basin.

Stakeholder Concerns: The views of stakeholders, as heard through the Commission and Study Board engagement and hearings, will be communicated to governments.

Engagement with Indigenous Communities: The Commission endorses the Study Board's recommendations regarding improving engagement and collaboration with Tribes, First Nations, and Métis communities.

Public input is essential to the Commission's rendering of a final decision to proceed with the proposed changes to the management of emergency levels and flows of the Rainy and Namakan Lakes, and to the Commission's perspective on changes to the operations and guidance provided to the Water Levels Committee, engagement with Tribes, First Nations, and Métis, and adaptive management.

The International Joint Commission was established under the Boundary Waters Treaty of 1909 to help the United States and Canada prevent and resolve disputes over the use of the waters the two countries share. Its responsibilities include investigating and reporting on issues of concern when asked by the governments of the two countries.

Under the Rainy Lake Convention, the IJC determines when emergency conditions exist in the Rainy Lake watershed, by reason of high or low water, and adopts measures of control with respect to the dams at Kettle Falls and International Falls-Fort Frances. For more information, visit the Commission's Web site at http://www.ijc.org.

Charles A. Lawson,
Secretary, U.S. Section, International Joint Commission, Department of State.

[FR Doc. 2017-17200 Filed 8-14-17; 8:45 am]

BILLING CODE 4710-14-P